DEPARTMENT OF DEFENSE

Department of the Army, Corps of Engineers

Notice of Availability of the Draft Environmental Impact Statement for the St. Lucie South Beach and Dune Restoration Project Located in St. Lucie County, Florida

AGENCY: U.S. Army Corps of Engineers, DoD.

Cooperating Agency: The Bureau of Ocean Energy, Management, Regulation and Enforcement (BOEMRE) is a cooperating federal agency having jurisdiction by law because the proposed federal action includes potential future use of beach compatible sand originating from the outer continental shelf.

ACTION: Notice of availability.

SUMMARY: The U.S. Army Corps of Engineers (USACE) is issuing this notice to advise the public that a Draft Environmental Impact Statement (DEIS) has been completed and is available for review and comment.

DATES: In accordance with the National Environmental Policy Act (NEPA), we have filed the DEIS with the U.S. Environmental Protection Agency (EPA) for publication of their notice of availability in the Federal Register. The EPA notice officially starts the 45-day review period for this document. It is the goal of the USACE to have this notice published on the same date as the EPA notice. However, if that does not occur, the date of the EPA notice will determine the closing date for comments on the DEIS. Comments on the DEIS must be submitted to the address below under Further Contact Information and must be received no later than 5 p.m. Eastern Standard Time, Monday, July 18, 2011.

Scoping: A Scoping Meeting was held in Ft. Pierce, FL on May 19th to gather information for the preparation of the DEIS. A Public notice was posted in a St. Lucie County newspaper, and mailed to current stakeholder lists with notification of the public meetings and requesting input and comments on issues that should be addressed in the DEIS.

A public meeting for this DEIS will be held on Wednesday, June 29, 2011 from 6 to 8:30 p.m. at the St. Lucie County Commission Chambers, Roger Poitras Administration Annex, 2300 Virginia Ave., Ft. Pierce, FL 34982. The purpose of this public meeting is to provide the public the opportunity to comment, either orally or in writing, on the DEIS. Notification of the meeting will be announced following same format as the Scoping Meetings announcements.

ADDRESSES: The DEIS is available online on the Jacksonville District Web site at: http://www.saj.usace.army.mil/Divisions/Regulatory/interest.htm. Copies of the DEIS are also available for review at the following libraries:

1. St. Lucie County Administration Building, 2300 Virginia Ave., Fort Pierce, FL 34982.

2. St. Lucie County Ft. Pierce Branch Library 101 Melody Lane, Fort Pierce, 34950.

3. St. Lucie County Lakewood Park Branch Library 7605 Santa Barbara Drive, Fort Pierce, 34951.

4. St. Lucie West Library J Building, 500 N.W. California Blvd., Port St. Lucie, 34986.

5. USACE Palm Beach Gardens Regulatory Office, 4400 PGA Boulevard, Suite 500 Palm Beach Gardens, Florida 33410.

FOR FURTHER INFORMATION CONTACT: Ms. Leah Oberlin, Chief, Palm Beach Gardens Section, U.S. Army Corps of Engineers, Jacksonville District, 4400 PGA Boulevard, Suite 500, Palm Beach Gardens, FL 33410, Telephone: 561-472-3517, Fax: 561-626-6971.

SUPPLEMENTARY INFORMATION: The project is being reviewed under Department of the Army permit application number SAJ-2009-03448(IP-GGL). The primary Federal involvement associated with the Proposed Action is the dredging and discharge of fill within navigable waters of the United States pursuant to Section 404 of the Clean Water Act (33 U.S.C. 1344) and Section 10 of the Rivers and Harbors Act of 1899 (33 U.S.C. 403).

The project is located on South Hutchinson Island in St. Lucie County and is approximately 3.8 miles in length. The project coincides approximately with Florida Department of Environmental Protection Shoreline Monuments R-88.5 to R-90.3, and R-98 to the St. Lucie/Martin County line. The northern limit of the project is approximately 6,000 feet south of the Hutchinson Island Nuclear Plant. The project was proposed by the St. Lucie County Erosion District (applicant) to stabilize the beach and dune to protect essential upland infrastructure, upland property, expand turtle nesting habitat, and increase recreational opportunities. The applicant's preference is to utilize a hopper dredge to obtain 610,000 cubic yards of beach compatible sand from a borrow area approximately 3.0 miles offshore of St. Lucie County. The hopper dredge would deliver the sand by hydraulic pumping onto the project beach. The applicant has stated the project was anticipated to adversely affect approximately 1.08 acres of near-shore hard bottom habitat through direct burial.

Because of the extensive hard bottom resources immediately adjacent to the beach, the high recreational uses of the project area, and the potential environmental impacts of the proposed project, the USACE is preparing the EIS for compliance with the National Environmental Policy Act (NEPA) to render a final decision on the applicant's permit application. The USACE's decision will be to either issue or deny a Department of the Army permit for the Proposed Action. The DEIS discloses alternatives to the proposed action, and the anticipated environmental effects on the human environment resulting from St. Lucie County Erosion Districts' proposal to construct the project and other reasonable alternatives.

The DEIS reviews the purpose and need for this project. All reasonable alternatives will be considered, including the no-action alternative. This DEIS evaluates the environmental effects of 7 alternatives including the applicant's preferred alternative described above, 5 additional alternatives that include varying degrees of beach and/or dune fill and hardbottom impacts, an alternative that includes beach and dune fill with stabilization structures (T-head groins), and the no-action alternative.

Dated: May 24, 2011.
Donald W. Kinard,
Deputy Chief, Regulatory Division.

[FR Doc. 2011-13836 Filed 6-2-11; 8:45 am]

BILLING CODE 3720-58-P